DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 12, 2004.

Interested persons are invited to submit written comments regarding the subject matter of the investigations to the Director, Division of Trade Adjustment Assistance, at the address shown below, not later than April 12, 2004.

The petitions filed in this case are available for inspection at the Office of the Director, Division of Trade Adjustment Assistance, Employment and Training Administration, U.S. Department of Labor, Room C-5311, 200 Constitution Avenue, NW., Washington, DC 20210.

Signed in Washington, DC this 22nd day of March, 2004.
Timothy Sullivan,
Director, Division of Trade Adjustment Assistance.

Appendix
[Petitions instituted between 03/01/2004 and 03/05/2004]
TA-W | Subject firm (petitioners) | Location | Date of Institution | Date of petition
54,381 | YKK (USA), Inc. (GA) | Macon, GA | 03/01/2004 | 03/01/2004
54,382 | Inter Metro Industries Corp. (Comp) | Cucamonga, CA | 03/01/2004 | 02/27/2004
54,383 | Hewlett Packard (Wkrs) | Allentown, PA | 03/01/2004 | 02/19/2004
54,384 | Keeler Die Cast (Comp) | Grand Rapids, MI | 03/01/2004 | 02/27/2004
54,385 | TSS Dupont Holding (Wkrs) | Providence, RI | 03/01/2004 | 02/26/2004
54,386 | Interface Fabrics South (Wkrs) | Elkin, NC | 03/01/2004 | 03/01/2004
54,387 | Shapiro Packing Co., Inc. (Wkrs) | Augusta, GA | 03/01/2004 | 02/25/2004
54,388 | Reeves International (Wkrs) | Pequannock, NJ | 03/01/2004 | 02/27/2004
54,389 | Slater Lemont (Wkrs) | Lemont, IL | 03/02/2004 | 02/25/2004
54,390 | Gultech North Carolina (Comp) | Raleigh, NC | 03/02/2004 | 03/01/2004
54,391 | Quad Tool and Design, Inc. (Comp) | Kewaskum, WI | 03/02/2004 | 03/01/2004
54,392 | Safelite Group (Wkrs) | Great Falls, MT | 03/02/2004 | 03/01/2004
54,393 | Johnson Controls Interior (MI) | Holland, MI | 03/02/2004 | 02/24/2004
54,394 | Magna Donnelly (MI) | Holland, MI | 03/02/2004 | 02/24/2004
54,395 | Great Lakes Gas Transmission Co. (Wkrs) | Troy, MI | 03/02/2004 | 02/23/2004
54,396 | Volt Services (Wkrs) | Roseville, CA | 03/02/2004 | 02/23/2004
54,397 | Ludlow Coated Products (Comp) | Opalocka, FL | 03/02/2004 | 02/20/2004
54,398 | Monster Cable Products, Inc. (Wkrs) | Brisbane, CA | 03/02/2004 | 02/23/2004
54,399 | WesternGeco (AK) | Anchorage, AK | 03/02/2004 | 02/17/2004
54,400 | Allen Edmonds Shoe Corp. (Wkrs) | Beigton, WI | 03/02/2004 | 03/01/2004
54,401 | G.S.W. Manufacturing (Comp) | Findlay, OH | 03/02/2004 | 03/01/2004
54,402 | Alcatel (TX) | Allen, TX | 03/02/2004 | 03/01/2004
54,403 | Missota Paper Co. LLC (MN) | Brainero, MN | 03/02/2004 | 03/01/2004
54,404 | Plains Cotton Cooperative Assoc. (Comp) | New Braunfels, TX | 03/02/2004 | 02/25/2004
54,405 | Avondale Mills, Inc. (Wkrs) | Burnsville, NC | 03/02/2004 | 03/01/2004
54,406 | Pegasus Solutions, Inc. (Comp) | Grapevine, TX | 03/03/2004 | 03/01/2004
54,407 | CFM US Corporation (Comp) | Huntington, IN | 03/03/2004 | 03/02/2004
54,408 | Morganite Inc. (Wkrs) | Dunn, NC | 03/03/2004 | 02/16/2004
54,409 | Rouge Steel Company (MI) | Dearborn, MI | 03/03/2004 | 02/24/2004
54,410 | ePlus Technology Inc. (Comp) | Wilmington, NC | 03/03/2004 | 03/03/2004
54,411 | Knowles Electronics (Comp) | Itasca, IL | 03/03/2004 | 02/20/2004
54,412 | Scovill Fastners, Inc. (Wkrs) | Clarkesville, GA | 03/03/2004 | 03/01/2004
54,413 | Sumitomo Electric Wiring Systems, Inc. (Comp) | Scottsville, KY | 03/03/2004 | 03/02/2004
54,414 | ACS (Wkrs) | Indianapolis, IN | 03/03/2004 | 03/01/2004
54,415 | MCS Merchandise (NJ) | Somerset, NJ | 03/03/2004 | 03/02/2004
54,416 | Plastic Components, Inc. (Comp) | Germantown, WI | 03/03/2004 | 02/25/2004
54,417 | Repack of Prewett Mills (Wkrs) | Ft. Payne, AL | 03/03/2004 | 02/26/2004
54,418 | Flexfab, LLC (Comp) | Albion, IN | 03/04/2004 | 03/03/2004
54,419 | U.S. Forest Industries, Inc. (Comp) | Lisle, IL | 03/04/2004 | 03/03/2004
54,420 | Global Power Equipment Group (MA) | Auburn, MA | 03/04/2004 | 02/23/2004
54,421 | Sykes Enterprises, Inc. (Wkrs) | Ada, OK | 03/04/2004 | 03/02/2004
54,422 | Golden Star, Inc. (Wkrs) | Atchison, KS | 03/04/2004 | 03/02/2004
54,423 | Takata Restraint Systems, Inc. (Comp) | Cheraw, SC | 03/04/2004 | 03/02/2004
54,424 | FSI Int (MN) | Chaska, MN | 03/04/2004 | 03/03/2004
54,425 | Bloomsburg Mills, Inc. (Comp) | Bloomsburg, PA | 03/05/2004 | 03/05/2004
54,426 | Littelfuse (Wkrs) | Arcola, IL | 03/05/2004 | 02/27/2004
54,427 | Huntington Steel Corp. (Comp) | Warren, MI | 03/05/2004 | 03/03/2004
54,428 | VF Playwear (Wkrs) | Greensboro, NC | 03/05/2004 | 03/03/2004
54,429 | Decorize, Inc. (Comp) | Springfield, MO | 03/05/2004 | 03/03/2004
54,430 | Bow Industrial Corp. (Union) | Plattsburgh, NY | 03/05/2004 | 03/04/2004

Appendix
[Petitions instituted between 03/08/2004 and 03/12/2004]
TA-W | Subject firm (petitioners) | Location | Date of institution | Date of petition
54,431 | Dexter Shoe Company (ME) | Dexter, ME | 03/08/2004 | 03/02/2004
54,432 | American Hofmann Corp. (Wkrs) | Lynchburg, VA | 03/08/2004 | 02/20/2004
54,433 | Night Fashion (CA) | Los Angeles, CA | 03/08/2004 | 02/26/2004
54,434 | Gale Group (Wkrs) | Belmont, CA | 03/08/2004 | 02/23/2004
54,435 | ISG-Steelton (USWA) | Steelton, PA | 03/08/2004 | 02/27/2004
54,436 | Thomson (CA) | Nevada City, CA | 03/08/2004 | 03/03/2004
54,437 | Parker Seal (Comp) | Lebanon, TN | 03/08/2004 | 02/23/2004
54,438 | Reichhold Chemicals (Wkrs) | Bridgeville, PA | 03/08/2004 | 03/04/2004
54,439 | Meyer Packaging (Comp) | Palmyra, PA | 03/08/2004 | 02/27/2004
54,440 | Medsource Technologies (Comp) | Newton, MA | 03/08/2004 | 03/05/2004
54,441 | Oxford Industries (Comp) | Lyons, GA | 03/08/2004 | 03/05/2004
54,442 | Holman Cooking Equipment (Comp) | Saco, ME | 03/08/2004 | 02/27/2004
54,443 | Bloomsburg Mills (Comp) | Bloomsburg, PA | 03/08/2004 | 03/05/2004
54,4444 | Irving Forest Products (PACE) | Ashland, ME | 03/08/2004 | 03/05/2004
54,445 | Scholle Custom Packaging (Comp) | Manistee, MI | 03/08/2004 | 03/05/2004
54,446 | MPI, Inc. (Wkrs) | Poughkeepsie, NY | 03/08/2004 | 03/03/2004
54,447 | ICT Group (Wkrs) | Burnham, PA | 03/09/2004 | 03/08/2004
54,448 | Methode Electronics (Wkrs) | Golden, IL | 03/09/2004 | 03/08/2004
54,449 | Prinzing Enterprises (Comp) | Warrenville, IL | 03/09/2004 | 03/08/2004
54,450 | Dekko Engineering (Comp) | Lucas, IA | 03/09/2004 | 03/08/2004
54,451 | Meadowcraft, Inc. (Comp) | Birmingham, AL | 03/09/2004 | 03/08/2004
54,452 | Jaftex Corporation (MEPA) | Henderson, NC | 03/09/2004 | 03/08/2004
54,453 | Agilent Technologies (Wkrs) | Loveland, CO | 03/09/2004 | 03/03/2004
54,454 | J.J. Mac, Inc. d/b/a Rainbeau (Wkrs) | San Francisco, CA | 03/09/2004 | 03/05/2004
54,455 | Weirton Steel Corp. (Comp) | Weirton, WV | 03/09/2004 | 03/06/2004
54,456 | Tyco Electronics (Comp) | Fuquay-Varina, NC | 03/09/2004 | 03/08/2004
54,457 | Protopac, Inc. (Comp) | Watertown, CT | 03/09/2004 | 03/08/2004
54,458 | Rowe Pottery Works (Wrks) | Cambridge, WI | 03/10/2004 | 03/09/2004
54,459 | Webster Industries (Comp) | Bangor, WI | 03/10/2004 | 03/08/2004
54,460 | Ertex Knitting Co. (NJ) | Paterson, NJ | 03/10/2004 | 03/09/2004
54,461 | Ramtex Sales Corp. (Comp) | New York, NY | 03/10/2004 | 02/26/2004
54,462 | Steward Machine Co. (Comp) | Birmingham, AL | 03/10/2004 | 03/09/2004
54,463 | Bodycote Thermal Processing (Wkrs) | Sturtevant, WI | 03/10/2004 | 02/26/2004
54,464 | GL and V Pulp and Paper USA (Comp) | Vancouver, WA | 03/10/2004 | 03/08/2004
54,465 | Paris Accessories (Wkrs) | Walnutport, PA | 03/10/2004 | 03/10/2004
54,466 | Worth (Comp) | Tullahoma, TN | 03/10/2004 | 02/19/2004
54,467 | RBX Industries, Inc. (Comp) | Bedford, VA | 03/10/2004 | 03/05/2004
54,468 | Trans Union (Wkrs) | Crumlynne, PA | 03/10/2004 | 03/10/2004
54,469 | St. John Knits (Wkrs) | Van Nuys, CA | 03/11/2004 | 03/01/2004
54,470 | BioLab, Inc. (Wkrs) | West Lake, LA | 03/11/2004 | 03/01/2004
54,471 | Circuit City (Wkrs) | Martinsville, VA | 03/11/2004 | 03/10/2004
54,472 | Alcatel USA (Wkrs) | Plano, TX | 03/11/2004 | 02/29/2004
54,473 | Atofina Chemicals (Wkrs) | Piffard, NY | 03/11/2004 | 02/27/2004
54,474 | Osram Sylvania (IUE) | St. Marys, PA | 03/11/2004 | 03/10/2004
54,475 | Dialight (Wkrs) | Roxboro, NC | 03/11/2004 | 03/02/2004
54,476 | Tekmatex (Wkrs) | Charlotte, NC | 03/11/2004 | 03/05/2004
54,477 | Simonds Industries (Comp) | Kirkland, WA | 03/11/2004 | 03/10/2004
54,478 | Great Years (Wkrs) | San Francisco, CA | 03/11/2004 | 03/02/2004
54,479 | SCA Packaging (USWA) | Streator, IL | 03/11/2004 | 03/03/2004
54,480 | Ma's Manufacturing (Wkrs) | San Francisco, CA | 03/11/2004 | 03/02/2004
54,481 | Sierra Pacific Industries (Wkrs) | Susanville, CA | 03/11/2004 | 03/01/2004
54,482 | Umicore Optical Materials USA (Comp) | Quapaw, OK | 03/11/2004 | 03/10/2204
54,483 | Colortex Corporation, Inc. (Comp) | York, SC | 03/11/2004 | 02/27/2004
54,484 | Cady Industries (Comp) | Memphis, TN | 03/12/2004 | 03/11/2004
54,485 | Burlington Industries (Wkrs) | Hurt, VA | 03/12/2004 | 02/20/2004
54,486 | Pasminco Clinch Valley Mine (Comp) | Thorn Hill, TN | 03/12/2004 | 03/11/2004
54,487 | Maple Mountain Industries (Wkrs) | Meyersdale, PA | 03/12/2004 | 03/05/2004
54,488 | Fort Smith and Bow (AR) | Fort Smith, AR | 03/12/2004 | 03/11/2004
54,489 | Pradco (AR) | Fort Smith, AR | 03/12/2004 | 03/11/2004
54,490 | Parker Hannifin Corp. (Comp) | Ogden, UT | 03/12/2004 | 03/04/2004
54,491 | Art Craft Optical (Wkrs) | Rochester, NY | 03/12/2004 | 02/19/2004
54,492 | Regal Manufacturing Co. (Comp) | Hickory, NC | 03/12/2004 | 03/08/2004
54,493 | Burle Industries (Wkrs) | Lancaster, PA | 03/12/2004 | 03/09/2003
54,494 | Jones and Vining, Inc. (Comp) | Lewiston, ME | 03/12/2004 | 03/10/2004
54,495 | Milliken and Company (Wkrs) | Spartanburg, SC | 03/12/2004 | 02/25/2004
54,496 | Kilgore Knitting, Inc. (AL) | Fyffe, AL | 03/12/2004 | 03/11/2004
54,497 | Trek Bicycle Corp. (Comp) | Whitewater, WI | 03/12/2004 | 03/11/2004

[FR Doc. 04-7170 Filed 3-30-04; 8:45 am]

BILLING CODE 4510-30-M